ENVIRONMENTAL PROTECTION AGENCY

[EPA-HQ-OPP-2007-0005; FRL-8112-5]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of request by registrants to voluntarily cancel certain pesticide registrations and providing a public comment period.

DATES: Unless a request is withdrawn by August 27, 2007 or March 30, 2007 for registrations for which the registrant requested a waiver of the 180-day comment period, orders will be issued canceling these registrations. The Agency will consider withdrawal requests postmarked no later than August 27, 2007 or March 30, 2007, whichever is applicable. Comments must be received on or before August 27, 2007 or March 30, 2007, for those registrations where the 180-day comment period has been waived.

ADDRESSES: Submit your comments and your withdrawal request, identified by docket identification (ID) number EPA-HQ-OPP-2007-0005, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001. Written withdrawal requests should be to the Attention of: John Jamula, Information Technology and Resources Management Division (7502P), at the address above.

• Delivery: OPP Regulatory Public Docket (7502P), Environmental Protection Agency, Rm. S-4400, One Potomac Yard (South Building), 2777 S. Crystal Drive, Arlington, VA. Deliveries are only accepted during the Dockets normal hours of operation (8:30 a.m. to 4 p.m., Monday through Friday, excluding legal holidays). Special arrangements should be made for deliveries of boxed information. The Docket telephone number is (703) 305-5805.

Instructions: Direct your comments to docket ID number EPA-HQ-OPP-2006-0084. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The Federal regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Building), 2777 S. Crystal Drive, Arlington, VA. The hours of operation of this Docket Facility are from 8:30 a.m. to 4 p.m., Monday through Friday, excluding legal holidays. The Docket telephone number is (703) 305-5805.

FOR FURTHER INFORMATION CONTACT: John Jamula, Information Technology and Resources Management Division (7502P), Office of Pesticide Programs, Environmental Protection Agency, 1200 Pennsylvania Ave., NW., Washington, DC 20460-0001; telephone number: (703) 305-6426; e-mail address: jamula.john@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What Action is the Agency Taking?

This notice announces receipt by the Agency of applications from registrants to cancel 162 pesticide products registered under section 3 or 24(c) of FIFRA. These registrations are listed in sequence by registration number (or company number and 24(c) number) in the following Table 1:

Table—Registrations With Pending Requests for Cancellation
Registration no. | Product Name | Chemical Name
000100 CO-98-0011 | Mefenoxam EC | D-Alanine, N-(2,6-dimethylphenyl)-N-(methoxyacetyl)-, methyl ester
000100 ID-02-0009 | Cyclone Concentrate/Gramoxone Max | Paraquat dichloride
000100 LA-01-0005 | Cyclone Concentrate/Gramoxone Max | Paraquat dichloride
000100 LA-01-0006 | Cyclone Concentrate/Gramoxone Max | Paraquat dichloride
000100 MI-95-0007 | Tilt Fungicide | Propiconazole
000100 MO-95-0003 | Gramoxone Extra Herbicide | Paraquat dichloride
000100 OK-93-0004 | Aatrex 4l Herbicide | Atrazine
000100 OK-93-0005 | Aatrex Nine-0 Herbicide | Atrazine
000100 OR-01-0019 | Actara 25 Wg | Thiamethoxam
000100 OR-96-0013 | Tilt Gel Fungicide | Propiconazole
000100 TX-03-0004 | Cyclone Concentrate/Gramoxone Max | Paraquat dichloride
000100 TX-03-0009 | Gramoxone Max Herbicide | Paraquat dichloride
000100 TX-04-0006 | Cyclone Concentrate Herbicide | Paraquat dichloride
000100 WA-04-0012 | Cyclone Concentrate Herbicide | Paraquat dichloride
000100 WA-04-0013 | Cyclone Concentrate Herbicide | Paraquat dichloride
000228-00154 | Riverdale Granular Lawn Weed Killer | 2,4-D, 2-ethylhexyl ester
|  | Mecoprop (and salts and esters)
000228-00253 | Riverdale MCPP-2 Amine | Mecoprop, dimethylamine salt
000228-00265 | Riverdale Dissolve (r) | 2,4-D, dimethylamine salt
|  | Dimethylamine 2-(2,4-dichlorophenoxy)propionate
|  | Mecoprop, dimethylamine salt
000228-00275 | Riverdale MCPP-80 Tm Amine Water Soluble | Mecoprop, dimethylamine salt
000228-00282 | Riverdale Dri D + Dp Amine | 2,4-D, dimethylamine salt
|  | Dimethylamine 2-(2,4-dichlorophenoxy)propionate
000228-00283 | Riverdale Triplet Water Soluble | Benzoic acid, 3,6-dichloro-2-methoxy-, compd with N-methylmethanamine (1:1)
|  | 2,4-D, dimethylamine salt
|  | Mecoprop, dimethylamine salt
000228-00287 | Riverdale Triplet MC Dri | Dicamba
|  | 2-4,D
|  | Mecoprop (and salts and esters)
000228-00315 | Riverdale Sweet Sixteen Weed and Feed with Triplet | Dicamba
|  | 2-4,D
|  | Mecoprop (and salts and esters)
000241-00370 | Pendulum Plus Fertilizer | Pendimethalin
000264 ID-00-0006 | Guthion Solupak 50% Wettable Powder Insecticide | Azinphos-Methyl
000264 OR-90-0025 | Sencor DF 75% Dry Flowable Herbicide | Metribuzin
000264 OR-97-0022 | Sencor DF 75% Dry Flowable Herbicide | Metribuzin
000279-03135 | Bistar T&O EC Insecticide | Piperonyl butoxide
|  | Bifenthrin
000478-00044 | Real-Kill Spot Weed Killer | Benzoic acid, 3,6-dichloro-2-methoxy-, compd with N-methylmethanamine (1:1)
|  | 2,4-D, dimethylamine salt
|  | Mecoprop, dimethylamine salt
000499-00244 | Whitmire X-Clude Pt 1600 R | 4,7-Methano-1H-isoindole-1,3(2H)-dione, 2-(2-ethylhexyl)-3a,4,7,7a-tetrahydro-
|  | Piperonyl butoxide
|  | Pyrethrins
000499-00247 | Whitmire X-Clude Pt 1600 P | 4,7-Methano-1H-isoindole-1,3(2H)-dione, 2-(2-ethylhexyl)-3a,4,7,7a-tetrahydro-
|  | Piperonyl butoxide
|  | Pyrethrins
000499-00310 | Whitmire PT 566 Pyrethrum | d-trans-Chrysanthemum monocarboxylic ester of dl-2-allyl-4-hydroxy-3-methyl-2-cyclopenten-1-
|  | 4,7-Methano-1H-isoindole-1,3(2H)-dione, 2-(2-ethylhexyl)-3a,4,7,7a-tetrahydro-
|  | Piperonyl butoxide
|  | Pyrethrins
000499-00313 | Whitmire PT 566 Hc Insect Fogger | d-trans-Chrysanthemum monocarboxylic ester of dl-2-allyl-4-hydroxy-3-methyl-2-cyclopenten-1-
|  | 4,7-Methano-1H-isoindole-1,3(2H)-dione, 2-(2-ethylhexyl)-3a,4,7,7a-tetrahydro-
|  | Piperonyl butoxide
|  | Pyrethrum
|  | Pyrethrins
000499-00328 | Whitmire PT18H Dairy and Farm Insect Fogger and Repellant | Piperonyl butoxide
|  | Pyrethrins
|  | Permethrin
000499-00329 | Whitmire Pt 555 Xlo Contact Insecticide | d-trans-Chrysanthemum monocarboxylic ester of dl-2-allyl-4-hydroxy-3-methyl-2-cyclopenten-1-
|  | 4,7-Methano-1H-isoindole-1,3(2H)-dione, 2-(2-ethylhexyl)-3a,4,7,7a-tetrahydro-
|  | Piperonyl butoxide
000499-00374 | Whitmire PT-565 Plus HO | d-trans-Chrysanthemum monocarboxylic ester of dl-2-allyl-4-hydroxy-3-methyl-2-cyclopenten-1-
|  | 4,7-Methano-1H-isoindole-1,3(2H)-dione, 2-(2-ethylhexyl)-3a,4,7,7a-tetrahydro-
|  | Piperonyl butoxide
|  | Pyrethrins
000499-00382 | Whitmire PT 1110 Pyrethrum Total Release Insecticide | Piperonyl butoxide
|  | Pyrethrins
000499-00401 | Whitmire PT 564 XLO Contact Insecticide | d-trans-Chrysanthemum monocarboxylic ester of dl-2-allyl-4-hydroxy-3-methyl-2-cyclopenten-1-
|  | 4,7-Methano-1H-isoindole-1,3(2H)-dione, 2-(2-ethylhexyl)-3a,4,7,7a-tetrahydro-
|  | Piperonyl butoxide
|  | Pyrethrins
|  | Prallethrin
000499-00407 | Whitmire TC-102 Pyrethrum Dairy Fogger | Piperonyl butoxide
|  | Pyrethrins
000499-00412 | TC 96 | d-trans-Chrysanthemum monocarboxylic ester of dl-2-allyl-4-hydroxy-3-methyl-2-cyclopenten-1-
|  | 4,7-Methano-1H-isoindole-1,3(2H)-dione, 2-(2-ethylhexyl)-3a,4,7,7a-tetrahydro-
|  | Piperonyl butoxide
|  | Pyrethrins
000499-00415 | Whitmire PT 525 Microfill Contact Insecticide | d-trans-Chrysanthemum monocarboxylic ester of dl-2-allyl-4-hydroxy-3-methyl-2-cyclopenten-1-
|  | 4,7-Methano-1H-isoindole-1,3(2H)-dione, 2-(2-ethylhexyl)-3a,4,7,7a-tetrahydro-
|  | Piperonyl butoxide
|  | Pyrethrins
000499-00417 | Whitmire PT 505 XLO Inspector Contact Insecticide | 4,7-Methano-1H-isoindole-1,3(2H)-dione, 2-(2-ethylhexyl)-3a,4,7,7a-tetrahydro-
|  | Piperonyl butoxide
|  | Pyrethrins
000499-00431 | Whitmire TC-158 Dairy Spray | Piperonyl butoxide
|  | Pyrethrins
000499-00505 | TC 243 | 4,7-Methano-1H-isoindole-1,3(2H)-dione, 2-(2-ethylhexyl)-3a,4,7,7a-tetrahydro-
|  | Piperonyl butoxide
|  | Pyrethrins
000538-00231 | Liquid Weed Control | 2,4-D, dimethylamine salt
|  | Dimethylamine 2-(2,4-dichlorophenoxy)propionate
|  | Mecoprop, dimethylamine salt
000769-00951 | Pratt Liquid Weedaway | Benzoic acid, 3,6-dichloro-2-methoxy-, compd with N-methylmethanamine (1:1)
|  | 2,4-D, dimethylamine salt
|  | Mecoprop, dimethylamine salt
000869-00216 | Green Light Wipe-Out | 2,4-D, dimethylamine salt
|  | Dimethylamine 2-(2,4-dichlorophenoxy)propionate
|  | Mecoprop, dimethylamine salt
000869-00217 | Green Light Ready-To-Use Wipe-Out | 2,4-D, dimethylamine salt
|  | Dimethylamine 2-(2,4-dichlorophenoxy)propionate
|  | Mecoprop, dimethylamine salt
000869-00220 | Green Light Ready-To-Use Rose & Flower Insect Spray | Piperonyl butoxide
|  | Pyrethrins
000961-00214 | Lebanon Uniform 10-6-4 with 2,4-D Weed and Feed | 2,4-D, dimethylamine salt
000961-00263 | Lebanon Weed & Feed 10-6-4 with 2,4-D and Mcpp | 2,4-D, dimethylamine salt
|  | Mecoprop, dimethylamine salt
000961-00334 | Green Gold Lawn Weed-R 27-3-3 | 2,4-D, dimethylamine salt
|  | Mecoprop, dimethylamine salt
001021-00023 | Pyrocide 20 | Pyrethrins
001021-00034 | Pyrocide Booster Concentrate E | Piperonyl butoxide
|  | Pyrethrins
001021-00754 | Pyrocide Intermediate 6441 | 4,7-Methano-1H-isoindole-1,3(2H)-dione, 2-(2-ethylhexyl)-3a,4,7,7a-tetrahydro-
|  | Piperonyl butoxide
|  | Pyrethrins
001021-00755 | Pyrocide Intermediate 6440 | 4,7-Methano-1H-isoindole-1,3(2H)-dione, 2-(2-ethylhexyl)-3a,4,7,7a-tetrahydro-
|  | Piperonyl butoxide
|  | Pyrethrins
001021-01127 | D-Trans Intermediate 1862 | d-trans-Chrysanthemum monocarboxylic ester of dl-2-allyl-4-hydroxy-3-methyl-2-cyclopenten-1-
|  | 4,7-Methano-1H-isoindole-1,3(2H)-dione, 2-(2-ethylhexyl)-3a,4,7,7a-tetrahydro-
|  | Piperonyl butoxide
001021-01198 | Pyrocide Fogging Concentrate 7104 | 4,7-Methano-1H-isoindole-1,3(2H)-dione, 2-(2-ethylhexyl)-3a,4,7,7a-tetrahydro-
|  | Piperonyl butoxide
|  | Pyrethrins
001021-01249 | Esbiol Intermediate 1971 | S-Bioallethrin
|  | 4,7-Methano-1H-isoindole-1,3(2H)-dione, 2-(2-ethylhexyl)-3a,4,7,7a-tetrahydro-
|  | Piperonyl butoxide
001021-01299 | Pyrocide Intermediate 7198 | Piperonyl butoxide
|  | Pyrethrins
001021-01394 | D-Trans Fogger & Contact Spray-2147 | d-trans-Chrysanthemum monocarboxylic ester of dl-2-allyl-4-hydroxy-3-methyl-2-cyclopenten-1-
|  | 4,7-Methano-1H-isoindole-1,3(2H)-dione, 2-(2-ethylhexyl)-3a,4,7,7a-tetrahydro-
|  | Piperonyl butoxide
001021-01417 | D-Trans Industrial and Household Space and Contact Spray | d-trans-Chrysanthemum monocarboxylic ester of dl-2-allyl-4-hydroxy-3-methyl-2-cyclopenten-1-
|  | 4,7-Methano-1H-isoindole-1,3(2H)-dione, 2-(2-ethylhexyl)-3a,4,7,7a-tetrahydro-
|  | Piperonyl butoxide
001021-01453 | Esbiol Fogging Concentrate 2263 | S-Bioallethrin
|  | 4,7-Methano-1H-isoindole-1,3(2H)-dione, 2-(2-ethylhexyl)-3a,4,7,7a-tetrahydro-
|  | Piperonyl butoxide
001021-01478 | Esbiol Fogging Concentrate 2289 | S-Bioallethrin
|  | 4,7-Methano-1H-isoindole-1,3(2H)-dione, 2-(2-ethylhexyl)-3a,4,7,7a-tetrahydro-
|  | Piperonyl butoxide
001021-01549 | Evercide Intermediate 2450 | Permethrin
001021-01572 | Pyrocide Concentrate 7394 | Piperonyl butoxide
|  | Pyrethrins
001021-01584 | Multicide Concentrate 2544 | d-Allethrin
|  | Piperonyl butoxide
|  | Phenothrin
001021-01673 | Evercide Total Release Fogger 2613 | 4,7-Methano-1H-isoindole-1,3(2H)-dione, 2-(2-ethylhexyl)-3a,4,7,7a-tetrahydro-
|  | Pyrethrins
|  | Permethrin
|  | Pyriproxyfen
001021-01694 | Multicide Concentrate 2739 | 4,7-Methano-1H-isoindole-1,3(2H)-dione, 2-(2-ethylhexyl)-3a,4,7,7a-tetrahydro-
|  | Prallethrin
001021-01839 | Permethrin 1.0% Pour on | Permethrin
001021-01840 | Permethrin 0.5% RTU Spray | Permethrin
001021-01842 | Permethrin 0.25% RTU | Permethrin
001021-01845 | Permethrin 2.5% Concentrate | Permethrin
001021-01846 | Permethrin 1% Pour on Synergized | Piperonyl butoxide
|  | Permethrin
002217-00789 | Trimec 1144 40% SP | Dicamba
|  | 2-4,D
|  | Mecoprop (and salts and esters)
002724-00514 | Speer Bird Spray | 4,7-Methano-1H-isoindole-1,3(2H)-dione, 2-(2-ethylhexyl)-3a,4,7,7a-tetrahydro-
|  | Piperonyl butoxide
|  | Propylene glycol
|  | Pyrethrins
|  | Triethylene glycol
002724-00531 | Speer Automatic Fogger | d-trans-Chrysanthemum monocarboxylic ester of dl-2-allyl-4-hydroxy-3-methyl-2-cyclopenten-1-
|  | Phenothrin
002724-00552 | Speer 4X Indoor Fogger | d-trans-Chrysanthemum monocarboxylic ester of dl-2-allyl-4-hydroxy-3-methyl-2-cyclopenten-1-
|  | 4,7-Methano-1H-isoindole-1,3(2H)-dione, 2-(2-ethylhexyl)-3a,4,7,7a-tetrahydro-
|  | Permethrin
005887-00173 | Improved Broadleaf Weed Killer | Benzoic acid, 3,6-dichloro-2-methoxy-, compd with N-methylmethanamine (1:1)
|  | 2,4-D, dimethylamine salt
|  | Mecoprop, dimethylamine salt
007401-00046 | Ferti-Lome Professional Crabgrass Control | Benfluralin
007401-00123 | Ferti Lome Tree Borer Crystals | Paradichlorobenzene
007401-00234 | Ferti-Lome Systemic Weed & Feed 11-3-6 | Benzoic acid, 3,6-dichloro-2-methoxy-, compd with N-methylmethanamine (1:1)
|  | 2,4-D, dimethylamine salt
|  | Mecoprop, dimethylamine salt
007401-00242 | Ferti Lome Weed Killer Plus Lawn Food | 2-4,D
|  | Mecoprop (and salts and esters)
007401-00298 | Ferti-Lome Crabgrass Preventer | Benfluralin
007401-00381 | Ferti-Lome Chickweed & Clover Control | Mecoprop, dimethylamine salt
007401-00382 | Hi-Yield Lawn Weed Killer | 2,4-D, dimethylamine salt
|  | Mecoprop, dimethylamine salt
007401-00413 | Ferti-Lome Winterizer & Weed Preventer | Benfluralin
|  | Oryzalin
007401-00415 | Ferti-Lome Weed and Feed Special | Benfluralin
|  | Oryzalin
008254-00004 | “4 the Squirrel” Repellent | Polybutene
008329 NJ-99-0007 | Abate 4e Insecticide | Temephos
008660-00007 | Sta-Green Weed & Feed 20-3-6 | Benzoic acid, 3,6-dichloro-2-methoxy-, compd with N-methylmethanamine (1:1)
|  | 2,4-D, dimethylamine salt
|  | Mecoprop, dimethylamine salt
008660-00024 | Vertgreen Mcpp Clover & Chickweed Killer | Mecoprop, potassium salt
008660-00147 | Vertagreen St. Augustine Weed & Feed | Benzoic acid, 3,6-dichloro-2-methoxy-, compd with N-methylmethanamine (1:1)
|  | 2,4-D, dimethylamine salt
|  | Mecoprop, dimethylamine salt
008660-00148 | Supreme Green | 2,4-D, dimethylamine salt
|  | Dimethylamine 2-(2,4-dichlorophenoxy)propionate
|  | Mecoprop, dimethylamine salt
008660-00169 | Ace Lawn Food with Weed Control | Benzoic acid, 3,6-dichloro-2-methoxy-, compd with N-methylmethanamine (1:1)
|  | 2,4-D, dimethylamine salt
|  | Mecoprop, dimethylamine salt
008660-00170 | Ace Lawn Food with Weed Control 22-6-8 | 2-4,D
|  | Mecoprop (and salts and esters)
008660-00172 | Deep Green Vigoro 23-3-7 Lawn Fertilizer & Weed Control | Dicamba
|  | 2-4,D
|  | Mecoprop (and salts and esters)
008660-00179 | Golden Vigoro Weed Control Plus Lawn Fertilizer 18-4-8 | Benzoic acid, 3,6-dichloro-2-methoxy-, compd with N-methylmethanamine (1:1)
|  | 2,4-D, dimethylamine salt
|  | Mecoprop, dimethylamine salt
008660-00184 | Gro-Tone 18 Weed & Feed | Dicamba
|  | 2-4,D
|  | Mecoprop (and salts and esters)
008660-00185 | Gro-Tone 20 Weed & Feed | Dicamba
|  | 2-4,D
|  | Mecoprop (and salts and esters)
008660-00212 | Par Ex Slow Release Fertilizer | Dicamba
|  | 2-4,D
|  | Mecoprop (and salts and esters)
008660-00221 | Park Ridge 18 Weed & Feed | Benzoic acid, 3,6-dichloro-2-methoxy-, compd with N-methylmethanamine (1:1)
|  | 2,4-D, dimethylamine salt
|  | Mecoprop, dimethylamine salt
008660-00222 | Park Ridge 20 Weed & Feed | Benzoic acid, 3,6-dichloro-2-methoxy-, compd with N-methylmethanamine (1:1)
|  | 2,4-D, dimethylamine salt
|  | Mecoprop, dimethylamine salt
008660-00226 | Premium Green Turf Lawn Food with Weed Control | 2,4-D, dimethylamine salt
|  | Dimethylamine 2-(2,4-dichlorophenoxy)propionate
|  | Mecoprop, dimethylamine salt
008660-00228 | Suburban 18 25-3-3 Weed & Feed | Benzoic acid, 3,6-dichloro-2-methoxy-, compd with N-methylmethanamine (1:1)
|  | 2,4-D, dimethylamine salt
|  | Mecoprop, dimethylamine salt
008660-00229 | Suburban 20 Weed & Feed 25-3-3 | Benzoic acid, 3,6-dichloro-2-methoxy-, compd with N-methylmethanamine (1:1)
|  | 2,4-D, dimethylamine salt
|  | Mecoprop, dimethylamine salt
008660-00231 | Vigoro Deep Green Weed and Feed | Benzoic acid, 3,6-dichloro-2-methoxy-, compd with N-methylmethanamine (1:1)
|  | 2,4-D, dimethylamine salt
|  | Mecoprop, dimethylamine salt
008660-00242 | Vigoro St. Augustine Grass Lawn Weeder and Feeder | Benzoic acid, 3,6-dichloro-2-methoxy-, compd with N-methylmethanamine (1:1)
|  | 2,4-D, dimethylamine salt
|  | Mecoprop, dimethylamine salt
008660-00244 | Vigoro Weed Control Plus Lawn Fertilizer | Benzoic acid, 3,6-dichloro-2-methoxy-, compd with N-methylmethanamine (1:1)
|  | 2,4-D, dimethylamine salt
|  | Mecoprop, dimethylamine salt
009367-00007 | Kill-O-Cide Fly & Insect Spray | Piperonyl butoxide
|  | Pyrethrins
009688-00154 | Chemsico EH1365 Herbicide | 2,4-D, dimethylamine salt
|  | Dimethylamine 2-(2,4-dichlorophenoxy)propionate
|  | Mecoprop, dimethylamine salt
009688-00155 | Chemsico EH1367 Herbicide | 2,4-D, dimethylamine salt
|  | Dimethylamine 2-(2,4-dichlorophenoxy)propionate
|  | Mecoprop, dimethylamine salt
009688-00156 | EH 1370 Weed & Feed | 2,4-D, dimethylamine salt
|  | Dimethylamine 2-(2,4-dichlorophenoxy)propionate
|  | Mecoprop, dimethylamine salt
010163 AL-95-0001 | Imidan 70-WP Agricultural Insecticide | Phosmet
010163 IN-97-0003 | Imidan 70-WP Agricultural Insecticide | Phosmet
010163 OR-99-0055 | Diclor Fungicide | Gas cartRidge (as a device for burrowing animal control)
|  | Dicloran
010163 OR-99-0056 | Botran 75 W-Fungicide | Dicloran
010163 WA-01-0032 | Imidan 70-WP Agricultural Insecticide | Phosmet
010807-00024 | Misty Glycol Air Sanitizer - Lemon/lime Fragrance | Propylene glycol
|  | Alkyl* dimethyl benzyl ammonium chloride *(50%C14, 40%C12, 10%C16)
|  | Triethylene glycol
010807-00037 | Misty Air Sanitizer Mint Fragrance | Propylene glycol
|  | Alkyl* dimethyl benzyl ammonium chloride *(60%C14, 30%C16, 5%C18, 5%C12)
|  | Alkyl* dimethyl ethylbenzyl ammonium chloride *(68%C12, 32%C14)
|  | Triethylene glycol
010807-00043 | Misty Mizer Air Sanitizer Lime | Propylene glycol
|  | Alkyl* dimethyl benzyl ammonium chloride *(50%C14, 40%C12, 10%C16)
|  | Triethylene glycol
010807-00069 | Misty Mizer Insecticide III | d-trans-Chrysanthemum monocarboxylic ester of dl-2-allyl-4-hydroxy-3-methyl-2-cyclopenten-1-
|  | Piperonyl butoxide
010807-00089 | Misty Misticide | 4,7-Methano-1H-isoindole-1,3(2H)-dione, 2-(2-ethylhexyl)-3a,4,7,7a-tetrahydro-
|  | Piperonyl butoxide
|  | Pyrethrins
010807-00156 | Misty Omnicide H.P. Insect Spray | Piperonyl butoxide
|  | Pyrethrins
010807-00157 | Amrep 5005 | Piperonyl butoxide
|  | Pyrethrins
010807-00185 | Misty 5013 | Piperonyl butoxide
|  | Tetramethrin
|  | Permethrin
010807-00192 | Misty Residual Insecticide | 4,7-Methano-1H-isoindole-1,3(2H)-dione, 2-(2-ethylhexyl)-3a,4,7,7a-tetrahydro-
|  | Pyrethrins
|  | Permethrin
010900-00098 | 893 Total Release Fogger II | 4,7-Methano-1H-isoindole-1,3(2H)-dione, 2-(2-ethylhexyl)-3a,4,7,7a-tetrahydro-
|  | Pyrethrins
|  | Permethrin
019713 CA-00-0030 | Drexel Diazinon Insecticide | Diazinon
019713 OR-04-0026 | Drexel Diazinon Insecticide | Diazinon
019713 OR-95-0016 | Drexel Captan 50w | Captan
019713 WA-95-0034 | Drexel Captan 50w | Captan
034704-00218 | Clean Crop Mec-Amine Plus | Benzoic acid, 3,6-dichloro-2-methoxy-, compd with N-methylmethanamine (1:1)
|  | 2,4-D, dimethylamine salt
|  | Mecoprop, dimethylamine salt
034704-00766 | Kleenup Grass & Weed Killer Formula II | 2,4-D, dimethylamine salt
|  | Mecoprop, dimethylamine salt
|  | Diquat dibromide
|  | Propanoic acid, 2-(4-((5-(trifluoromethyl)-2-pyridinyl)oxy)phenoxy)-, butyl ester, (R)-
040849-00070 | AT Weed & Grass Killer Concentrate | 2,4-D, dimethylamine salt
|  | Mecoprop, dimethylamine salt
|  | Propanoic acid, 2-(4-((5-(trifluoromethyl)-2-pyridinyl)oxy)phenoxy)-, butyl ester, (R)-
|  | Nonanoic acid
042750-00138 | Nicosulfuron TGAI | Nicosulfuron
042750-00139 | Nicosulfuron 75 WDG | Nicosulfuron
045220-00001 | Pow Herbal Flea Powder | Pyrethrins
046515-00034 | Super K-Gro Liquid Weed & Feed Formula II | 2,4-D, dimethylamine salt
|  | Mecoprop, dimethylamine salt
046515-00055 | Broadleaf Weed Killer Aerosol | 2,4-D, dimethylamine salt
|  | Dimethylamine 2-(2,4-dichlorophenoxy)propionate
|  | Mecoprop, dimethylamine salt
051036 MS-96-0002 | Micro Flo Chlorpyrifos Termite Concentrate | Chlorpyrifos
062719-00061 | Mcpp Amine 4M | Mecoprop, dimethylamine salt
062719-00405 | Kelthane MF Agricultural Miticide | Dicofol
062719-00406 | Kelthane Technical Agricultural Miticide | Dicofol
062719-00414 | Kelthane 50 Agricultural Miticide Wettable Powder | Dicofol
062719 CO-02-0002 | Propiconazole EC | Propiconazole
062719 CO-06-0005 | Kelthane MF Agricultural Miticide | Dicofol
062719 ID-02-0022 | Kelthane MF Agricultural Miticide | Dicofol
062719 LA-02-0003 | Propiconazole EC | Propiconazole
062719 ME-95-0009 | Kelthane 50 Agricultural Miticide Wettable Powder | Dicofol
062719 MO-02-0001 | Propiconazole EC | Propiconazole
062719 OR-02-0031 | Kelthane MF Agricultural Miticide | Dicofol
062719 TX-03-0003 | Propiconazole EC | Propiconazole
062719 VA-01-0004 | Kelthane 50 Agricultural Miticide Wettable Powder | Dicofol
062719 WA-05-0009 | Propimax EC | Propiconazole
062719 WA-89-0027 | Kelthane MF Agricultural Miticide | Dicofol
062719 WA-91-0043 | Kerb 50W Herbicide | Propyzamide
067603-00002 | TSD House & Garden/flea and Tick Spray | Piperonyl butoxide
|  | Pyrethrins
|  | Permethrin
067603-00003 | TSD Indoor Outdoor Insect Spray | Piperonyl butoxide
|  | Tetramethrin
|  | Permethrin
069061-00004 | Davis Triple Pyrethrines Flea & Tick Shampoo | 2,5-Pyridinedicarboxylic acid, dipropyl ester
|  | 4,7-Methano-1H-isoindole-1,3(2H)-dione, 2-(2-ethylhexyl)-3a,4,7,7a-tetrahydro-
|  | Piperonyl butoxide
|  | Pyrethrins
071368-00009 | DPD-Amine Herbicide | 2,4-D, dimethylamine salt
|  | Dimethylamine 2-(2,4-dichlorophenoxy)propionate
071368-00012 | Chipco Weedone DPC Amine Herbicide | 2,4-D, triisopropanolamine salt
|  | Dimethylamine 2-(2,4-dichlorophenoxy)propionate

A request to waive the 180-day comment period has been received for the following registrations: 228-154; 228-253; 228-265; 228-275; 228-282; 228-283; 228-287; 228-315; 279-3135; 499-244; 499-247; 499-310; 499-313; 499-328; 499-329; 499-374; 499-382; 499-401; 499-407; 499-412; 499-415; 499-417; 499-431; 499-505; 538-231; 769-951; 869-216; 869-217; 961-214; 961-263; 961-334; 2217-789; 2724-531; 2724-552; 5887-173; 7401-46; 7401-298; 7401-413; 7401-415; 9367-7; 10807-69; 10807-89; 10807-156;10807-57; 10807-185; 10807-192; 34704-218; 34704-766; 40849-70; 62719-61; 69061-4; 71368-9; 71368-12; ID-0000-06. Therefore, the 30-day comment period will apply for these registrations.

Unless a request is withdrawn by the registrant by August 27, 2007 or by March 30, 2007 for those registrations with a 30-day comment period, orders will be issued canceling all of these registrations. A person may submit comments to EPA as provided in ADDRESSES and Unit I. of the SUPPLEMENTARY INFORMATION above. However, because FIFRA section 6(f)(1)(A) allows a registrant to request cancellation of its pesticide registrations at any time, users or anyone else desiring retention of those pesticides listed in Table 1 may want to contact the applicable registrant in Table 2 directly during this period to request that the registrant retain the pesticide registration or to discuss the possibility of transferring the registration. A user seeking to apply for its own registration of that pesticide may submit comments requesting EPA not to cancel a registration until its registration is granted.

Table 2 of this unit includes the names and addresses of record for all registrants of the products in Table 1 of this unit, in sequence by EPA company number:

Table 2—Registrants Requesting Voluntary Cancellation
EPA Company no. | Company Name and Address
000100 | Syngenta Crop Protection, Inc., Attn: Regulatory Affairs, P.O. Box 18300, Greensboro, NC 27419-8300
000228 | Nufarm Americas Inc., 150 Harvester Drive Suite 200, Burr Ridge, IL 60527
000241 | BASf Corp., PO Box 13528, Research Triangle Park, NC 277093528
000264 | Bayer Cropscience LP, 2 T.W. Alexander Drive, Research Triangle Park, NC 27709
000279 | FMC Corp. Agricultural Products Group, 1735 Market St, Philadelphia, PA 19103
000478 | Realex, Div of United Industries Corp., P.O. Box 142642, St Louis, MO 63114-0642
000499 | Whitmire Micro-Gen Research Laboratories Inc., 3568 Tree Ct Industrial Blvd, St Louis, MO 63122-6682
000538 | Scotts Co., The, 14111 Scottslawn Rd, Marysville, OH 43041
000769 | Value Gardens Supply, LLC, d/b/a Value Garden Supply, P.O. Box 585, Saint Joseph, MO 64502
000869 | Green Light Co., P.O. Box 17985, San Antonio, TX 78217
000961 | Lebanon Seaboard Corp., 1600 E. Cumberland Street, Lebanon, PA 17042
001021 | Mclaughlin Gormley King Co, 8810 Tenth Ave North, Minneapolis, MN 55427-4372
002217 | PBI/Gordon Corp., P.O. Box 014090, Kansas City, MO 64101-0090
002724 | Wellmark International, 1501 E. Woodfield Rd., Suite 200 W., Schaumburg, IL 60173
005887 | Value Gardens Supply, LLC, d/b/a Value Garden Supply, P.O. Box 585, Saint Joseph, MO 64502
007401 | Brazos Associates, Inc., Agent For: Voluntary Purchasing Group Inc., 1806 Auburn Drive, Carrollton, TX 75007-1451
008254 | Bird Control International Corp., 1393 E. Highland Rd., Twinsburg, OH 44087
008329 | Clarke Mosquito Control Products Inc., 159 N. Garden Ave, Roselle, IL 60172
008660 | United Industries Corp., d/b/a Sylorr Plant Corp., P.O. Box 142642, St. Louis, MO 63114-0642
009198 | The Anderson's Lawn Fertilizer Division, Inc., dba/ Free Flow Fertilizer, P.O. Box 119, Maumee, OH 43537
009367 | Theochem Laboratories, Inc., 7373 Rowlett Park Drive, Tampa, FL 33610-1141
009688 | Chemsico, Div of United Industries Corp., P.O. Box 142642, St Louis, MO 63114-0642
010163 | Gowan Co, P.O. Box 5569, Yuma, AZ 85366-5569
010404 | Lesco Inc., 1301 E. 9th Street, Suite 1300, Cleveland, OH 44114-1849
010807 | Amrep, Inc., 990 Industrial Dr, Marietta, GA 30062
010900 | Sherwin-Williams Diversified Brands, 601 Canal Rd., Cleveland, OH 44113
019713 | Drexel Chemical Co., P.O. Box 13327, Memphis, TN 38113-0327
034704 | Loveland Products, Inc., P.O. Box 1286, Greeley, CO 80632
040849 | Enforcer Products, A Division of Acuity Specialty Products Group, Inc, 1420 Seaboard Industrial Blvd., Atlanta, GA 30318
042750 | Albaugh, Inc., Agent For: Albaugh Inc., P.O. Box 2127, Valdosta, GA 31604-2127
045220 | Natural Animal Health Products, Inc., P.O. Box 1177, St Augustine, FL 32085
046515 | Celex, Division of United Industries Corp., P.O. Box 142642, St Louis, MO 63114-0642
051036 | BASF Sparks LLC, P.O. Box 13528, Research Triangle Park, NC 27709
062719 | Dow Agrosciences LLC, 9330 Zionsville Rd 308/2E, Indianapolis, IN 46268-1054
067603 | Sherwin-Williams Diversified Brands, 601 Canal Rd., Cleveland, OH 44113
069061 | Technology Sciences Group, Inc., Agent For: Sivad Mfg. & Packaging Inc., 4061 North 156th Drive, Goodyear, AZ 85338
071368 | Nufarm, Inc., 150 Harvester Drive Suite 200, Burr Ridge, IL 60527

III. What is the Agency's Authority for Taking this Action?

Section 6(f)(1)(A) of FIFRA provides that a registrant of a pesticide product may at any time request that any of its pesticide registrations be canceled. FIFRA further provides that, before acting on the request, EPA must publish a notice of receipt of any such request in the Federal Register and provide for a 30-day public comment period. In addition, where a pesticide is registered for a minor agricultural use and the Administrator determines that cancellation or termination of that use would adversely affect the availability of the pesticide for use, FIFRA section 6(f)(1)(C) requires EPA to provide a 180-day period before approving or rejecting the section 6(f) request unless:

1. The registrant requests a waiver of the 180-day period, or

2. The Administrator determines that continued use of the pesticide would pose an unreasonable adverse effect on the environment.

IV. Procedures for Withdrawal of Request

Registrants who choose to withdraw a request for cancellation must submit such withdrawal in writing to the person listed under FOR FURTHER INFORMATION CONTACT, postmarked before August 27, 2007 or before March 30, 2007 for those registrations where the 180-day comment period has been waived. This written withdrawal of the request for cancellation will apply only to the applicable FIFRA section 6(f)(1) request listed in this notice. If the product(s) have been subject to a previous cancellation action, the effective date of cancellation and all other provisions of any earlier cancellation action are controlling. The withdrawal request must also include a commitment to pay any reregistration fees due, and to fulfill any applicable unsatisfied data requirements.

V. Provisions for Disposition of Existing Stocks

The effective date of cancellation will be the date of the cancellation order. The orders effecting these requested cancellations will generally permit a registrant to sell or distribute existing stocks for 1 year after the date the cancellation request was received. This policy is in accordance with the Agency's statement of policy as prescribed in the Federal Register of June 26, 1991 (56 FR 29362) (FRL-3846-4). Exceptions to this general rule will be made if a product poses a risk concern, or is in noncompliance with reregistration requirements, or is subject to a Data Call-In. In all cases, product-specific disposition dates will be given in the cancellation orders.

Existing stocks are those stocks of registered pesticide products which are currently in the United States and which have been packaged, labeled, and released for shipment prior to the effective date of the cancellation action. Unless the provisions of an earlier order apply, existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a Special Review action, or where the Agency has identified significant potential risk concerns associated with a particular chemical.

List of Subjects

Environmental protection, Pesticides and pests.

Dated: February 12, 2007.
Robert Forrest,
Acting Director, Information Technology and Resources Management Division, Office of Pesticide Programs.

[FR Doc. E7-3322 Filed 2-27-07; 8:45 am]

BILLING CODE 6560-50-S